DEPARTMENT OF STATE

[Public Notice 3363]

Office of Defense Trade Controls; Notifications to the Congress of Proposed Commercial Export Licenses

AGENCY: Department of State.

ACTION: Notice.

SUMMARY: Notice is hereby given that the Department of State has forwarded the attached Notifications of Proposed Export Licenses to the Congress on the dates shown on the attachments pursuant to sections 36(c) or 36(d) and in compliance with section 36(e) of the Arms Export Control Act (22 U.S.C. 2776).

EFFECTIVE DATE: As shown on each of the 25 letters.

FOR FURTHER INFORMATION CONTACT: Mr. William J. Lowell, Director, Office of Defense Trade Controls, Bureau of Political-Military Affairs, Department of State (202 663-2700).

SUPPLEMENTARY INFORMATION: Section 38(e) of the Arms Export Control Act mandates that notifications to the Congress pursuant to sections 36(c) or 36(d) must be published in the Federal Register when they are transmitted to Congress or as soon thereafter as practicable.

Dated: July 5, 2000.
William J. Lowell,
Director, Office of Defense Trade Controls.

United States Department of State,

Washington, D.C. 20520.

June 7, 2000.

The Honorable J. Dennis Hastert, Speaker of the House of Representatives.

Dear Mr. Speaker: Pursuant to Section 36(c) of the Arms Export Control Act, I am transmitting, herewith, certification of a proposed license for the export of defense articles or defense services sold commercially under a contract in the amount $50,000,000 or more.

The transaction contained in the attached certification involves the export of technical information, assistance and raw materials to Sweden for the manufacture of F414-GE-400 engine components.

The United States Government is prepared to license the export of these items having taken into account political, military, economic, human rights, and arms control considerations.

More detailed information is contained in the formal certification which, though unclassified, contains business information submitted to the Department of State by the applicant, publication of which could cause competitive harm to the United States firm concerned.

Sincerely,
Barbara Larkin,
Assistant Secretary, Legislative Affairs.
Enclosure: Transmittal No. DTC 021-00.

United States Department of State,

Washington, D.C. 20520.

June 7, 2000.

The Honorable J. Dennis Hastert, Speaker of the House of Representatives.

Dear Mr. Speaker: Pursuant to Section 36(d) of the Arms Export Control

Act, I am transmitting, herewith, certification of a proposed Manufacturing License Agreement with Norway.

The transaction described in the attached certification involves the transfer of technical information and know-how to Norway for the manufacture of Composite Propellant Gas Generators for the Penguin Missile for the Kingdom of Norway, Sweden, Greece and Turkey.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 022-00.
Barbara Larkin,
Assistant Secretary, Legislative Affairs.

United States Department of State,

Washington, D.C. 20520

June 7, 2000.

The Honorable J. Dennis Hastert, Speaker of the House of Representatives.

Dear Mr. Speaker: Pursuant to section 36(c) of the Arms Export Control Act, I am transmitting, herewith, certification of a proposed license for the export of defense articles or defense services sold commercially under a contract in the amount $50,000,000 or more.

The transaction contained in the attached certification involves the export of technical data, assistance and defense articles for the manufacture in Turkey of IFF equipment for the Turkish National Radar/IFF Program.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 024-00.
Barbara Larkin,
Assistant Secretary, Legislative Affairs.

United States Department of State,

Washington, D.C. 20520.

June 9, 2000.

The Honorable J. Dennis Hastert, Speaker of the House of Representatives.

Dear Mr. Speaker: Pursuant to Section 36(c) of the Arms Export Control Act, I am transmitting herewith certification of a proposed license for the export of defense articles or defense services sold commercially under a contract in the amount $50,000,000 or more.

The transaction contained in the attached certification involves the transfer of technical data and defense services in support of the AC-130 Gunship ALLTV Program, in the United Kingdom.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 28-00.
Barbara Larkin,
Assistant Secretary, Legislative Affairs.

United States Department of State,

Washington, D.C. 20520.

June 21, 2000.

The Honorable J. Dennis Hastert, Speaker of the House of Representatives.

Dear Mr. Speaker: Pursuant to Section 36(c) of the Arms Export Control Act, I am transmitting herewith certification of a proposed license for the export of defense articles or defense services sold commercially under a contract in the amount $50,000,000 or more.

The transaction contained in the attached certification involves the export of defense services and articles to the United Kingdom in support modification and maintenance of Aircrew Training Devices (ATDs) for the KC-10, C-130, and E-3 Aircraft, and the integration of the Global Air Traffic Management System.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 29-00.
Barbara Larkin,
Assistant Secretary, Legislative Affairs.

United States Department of State,

Washington, D.C. 20520.

June 6, 2000.

The Honorable J. Dennis Hastert, Speaker of the House of Representatives.

Dear Mr. Speaker: Pursuant to Section 36(c) of the Arms Export Control Act, I am transmitting herewith certification of a proposed license for the export of defense articles or defense services sold commercially under a contract in the amount of $50,000,000 or more.

The transaction contained in the attached certification involves an extension in the duration of 100-99, relating to the export of defense services to establish a formal structure for civilian control of the military, train the Federation of Bosnia and Herzegovina forces in defensive tactics, and improve their capability to deter hostile forces and defend their territory if deterrence fails.

The United States Government is prepared to license the export of these items having taken into account political, military, economic, human rights, and arms control considerations.

More detailed information is contained in the formal certification which, though unclassified contains business information submitted to the Department of State by the applicant, publication of which could cause competitive harm to the United States firm concerned.

Sincerely,
Enclosure: Transmittal No. DTC 30-00.
Barbara Larkin,
Assistant Secretary, Legislative Affairs.

United States Department of State,

Washington, D.C. 20520.

June 21, 2000.

The Honorable J. Dennis Hastert, Speaker of the House of Representatives.

Dear Mr. Speaker: Pursuant to Section 36(c) of the Arms Export Control Act, I am transmitting herewith certification of a proposed license for the export of defense articles or defense services sold commercially under a contract in the amount $50,000,000 or more.

The transaction contained in the attached certification involves the export of defense services in support of six commercial communications satellite launches aboard Delta Class Expendable Launch Vehicles with France.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 31-00.
Barbara Larkin,
Assistant Secretary, Legislative Affairs.

United States Department of State,

Washington, D.C. 20520.

June 6, 2000.

The Honorable J. Dennis Hastert, Speaker of the House of Representatives.

Dear Mr. Speaker: Pursuant to Section 36(c) of the Arms Export Control Act, I am transmitting herewith certification of a proposed license for the export of defense articles or defense services sold commercially under a contract in the amount of $50,000,000 or more.

The transaction contained in the attached certification involves the transfer of data to Australia to support prediction and avoidance collision systems for the Iridium Satellite Program.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 033-00.
Barbara Larkin,
Assistant Secretary, Legislative Affairs.

United States Department of State,

Washington, D.C. 20520.

June 21, 2000.

The Honorable J. Dennis Hastert, Speaker of the House of Representatives.

Dear Mr. Speaker: Pursuant to Section 36(c) of the Arms Export Control Act, I am transmitting herewith certification of a proposed license for the export of defense articles or defense services sold commercially under a contract in the amount of $50,000,000 or more.

The transaction contained in the attached certification involves the export of technical data and defense services for the Avionics Upgrade of the F-111C and RF-111C Aircraft in Australia.

The United States Government is prepared to license the export of these items having taken into account political, military, economic, human rights, and arms control considerations.

More detailed information is contained in the formal certification which, though unclassified contains business information submitted to the Department of State by the applicant, publication of which could cause competitive harm to the United States firm concerned.

Sincerely,
Enclosure: Transmittal No. DTC 34-00.
Barbara Larkin,
Assistant Secretary, Legislative Affairs.

United States Department of State,

Washington, D.C. 20520.

June 21, 2000.

The Honorable J. Dennis Hastert, Speaker of the House of Representatives.

Dear Mr. Speaker: Pursuant to Section 36(d) of the Arms Export Control Act, I am transmitting herewith certification of a proposed license for the export of defense articles or defense services sold commercially under a contract in the amount of $50,000,000 or more.

The transaction described in the attached certification involves the transfer of technical data and defense services for the manufacture and production of F/A-18 E/F Nose Landing Gear Systems in Canada.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 35-00.
Barbara Larkin,
Assistant Secretary, Legislative Affairs.

United States Department of State,

Washington, D.C. 20520.

June 9, 2000.

The Honorable J. Dennis Hastert, Speaker of the House of Representatives.

Dear Mr. Speaker: Pursuant to Section 36 (c) & (d) of the Arms Export Control Act, I am transmitting herewith certification of a proposed license for defense articles and defense services in the amount of $50,000,000 or more.

The transaction described in the attached certification involves the amendment of a manufacturing license agreement with Japan for the coproduction of the AN/AAS-36 Forward Looking Infrared (FLIR) Detecting Sets.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 38-00.
Barbara Larkin,
Assistant Secretary, Legislative Affairs.

United States Department of State,

Washington, D.C. 20520.

June 9, 2000.

The Honorable J. Dennis Hastert, Speaker of the House of Representatives.

Dear Mr. Speaker: Pursuant to Section 36(c) of the Arms Export Control Act, I am transmitting herewith certification of a proposed license for the export of defense articles or defense services sold commercially under a contract in the amount $50,000,000 or more.

The transaction contained in the attached certification involves the export of technical data and assistance to support the co-development by Japan and the U.S. of the SM-3 Block II Missile for the Navy Theater Wide (NTW) Theater Ballistic Missile Defense (TBMD).

The United States Government is prepared to license the export of these items having taken into account political, military, economic, human rights, and arms control considerations.

More detailed information is contained in the formal certification which, though unclassified contains business information submitted to the Department of State by the applicant, publication of which could cause competitive harm to the United States firm concerned.

Sincerely,
Enclosure: Transmittal No. DTC 039-00.
Barbara Larkin,
Assistant Secretary, Legislative Affairs.

United States Department of State,

Washington, D.C. 20520.

June 9, 2000.

The Honorable J. Dennis Hastert, Speaker of the House of Representatives.

Dear Mr. Speaker: Pursuant to Section 36(d) of the Arms Export Control Act, I am transmitting herewith certification of a proposed Manufacturing License Agreement with Republic of Korea.

The transaction described in the attached certification involves the transfer of technical data and assistance in the manufacture of the Korean Commander's Panoramic Sight for the Korean Army's K1 Main Battle Tank.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 040-00.
Barbara Larkin,
Assistant Secretary, Legislative Affairs.

United States Department of State,

Washington, D.C. 20520.

June 9, 2000.

The Honorable J. Dennis Hastert, Speaker of the House of Representatives.

Dear Mr. Speaker: Pursuant to Section 36(c)&(d) of the Arms Export Control Act, I am transmitting herewith certification of a proposed license for the export of technical data and/or defense services sold commercially under a contract in the amount $50,000,000 or more.

The transaction described in the attached certification involves the export to the Republic of Korea of technical data and assistance in the manufacture of Gunners Primary Tank Thermal Sight for end use by the ROK Government.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 043-00.
Barbara Larkin,
Assistant Secretary, Legislative Affairs.

United States Department of State,

Washington, D.C. 20520.

June 21, 2000.

The Honorable J. Dennis Hastert, Speaker of the House of Representatives.

Dear Mr. Speaker: Pursuant to Section 36(c)&(d) of the Arms Export Control Act, I am transmitting herewith certification of a proposed license for the export of defense articles and defense services sold commercially under a contract in the amount of $50,000,000 or more.

The transaction described in the attached certification involves the export to Germany of technical data and assistance in the manufacture of Infrared Target Acquisition and Tracking Equipment for end use by the governments of Germany, Norway, Belgium, Denmark, France, Greece, Italy, The Netherlands, and Sweden.

The United States Government is prepared to license the export of these items having taken into account political, military, economic, human rights, and arms control considerations.

More detailed information is contained in the formal certification which, though unclassified, contains business information submitted to the Department of State by the applicant, publication of which could cause competitive harm to the United States firm concerned.

Enclosure: Transmittal No. DTC 044-00.
Barbara Larkin,
Assistant Secretary, Legislative Affairs.

United States Department of State,

Washington, D.C. 20520.

June 6, 2000.

The Honorable J. Dennis Hastert, Speaker of the House of Representatives.

Dear Mr. Speaker: Pursuant to Section 36(c) of the Arms Export Control Act, I am transmitting, herewith, certification of a proposed license for the export of defense articles or defense services sold commercially under a contract in the amount $50,000,000 or more.

The transaction involved in the attached certification involves the export of an A2100 commercial communications satellite to Baikonur Cosmodrone in Kazakhstan for launch on a Proton launch vehicle.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 045-00.
Barbara Larkin,
Assistant Secretary, Legislative Affairs.

United States Department of State,

Washington, D.C. 20520.

June 6, 2000.

The Honorable J. Dennis Hastert, Speaker of the House of Representatives.

Dear Mr. Speaker: Pursuant to Section 36(c) of the Arms Export Control Act, I am transmitting herewith certification of a proposed license for the export of defense articles or defense services sold commercially under a contract in the amount $50,000,000 or more.

The transaction contained in the attached certification involves the export of communication payloads to Germany for integration on commercial satellites and subsequent launch from Kazakhstan and/or Russia. The satellites will comprise a low-Earth orbit, mobile data communications system to provide commercial, non-voice, wireless communication services.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 046-00.
Barbara Larkin,
Assistant Secretary, Legislative Affairs.

United States Department of State,

Washington, D.C. 20520.

June 19, 2000.

The Honorable J. Dennis Hastert, Speaker of the House of Representatives.

Dear Mr. Speaker: Pursuant to Section 36(c) of the Arms Export Control Act, I am transmitting herewith certification of a proposed license for the export of defense articles or defense services sold commercially under a contract in the amount $50,000,000 or more.

The transaction described in the attached certification involves the export of an INTELSAT IX commercial communications satellite to French Guiana for launch on an Ariane launch vehicle. Upon orbit, it will be operated by the INTELSAT telecommunications organization located in Washington, D.C.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 047-00.
Barbara Larkin,
Assistant Secretary, Legislative Affairs.

United States Department of State,

Washington, D.C. 20520.

June 9, 2000.

The Honorable J. Dennis Hastert, Speaker of the House of Representatives.

Dear Mr. Speaker: Pursuant to Section 36(c) of the Arms Export Control Act, I am transmitting, herewith, certification of a proposed license for the export of defense articles or defense services sold commercially under a contract in the amount $50,000,000 or more.

The transaction contained in the attached certification involves the transfer of one commercial communications satellite (PAS-10) to Baikonour Cosmodrone in Kazakhstan for launch on a Proton launch vehicle. Upon orbit, it will be operated by PanAmSat in Greenwich, Connecticut.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 34-00.
Enclosure: Transmittal No. DTC 049-00.
Barbara Larkin,
Assistant Secretary, Legislative Affairs.

United States Department of State,

Washington, D.C. 20520.

June 9, 2000.

The Honorable J. Dennis Hastert, Speaker of the House of Representatives.

Dear Mr. Speaker: Pursuant to Section 36(d) of the Arms Export Control Act, I am transmitting herewith certification of a proposed Manufacturing License Agreement with Canada.

The transaction described in the attached certification involves the manufacture of optical assemblies for the U. S. Army Advanced Threat Infrared Countermeasures (ATIRCM) program.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 050-00.
Barbara Larkin,
Assistant Secretary, Legislative Affairs.

United States Department of State,

Washington, D.C. 20520.

June 9, 2000.

The Honorable J. Dennis Hastert, Speaker of the House of Representatives.

Dear Mr. Speaker: Pursuant to Section 36(d) of the Arms Export Control Act, I am transmitting herewith certification of a proposed Manufacturing License Agreement with Canada.

The transaction described in the attached certification involves the manufacture of inertial navigation system components for use on Canadian CF-18 fighter and CP-140 maritime patrol aircraft.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 051-00.
Barbara Larkin,
Assistant Secretary, Legislative Affairs.

United States Department of State,

Washington, D.C. 20520.

June 21, 2000.

The Honorable J. Dennis Hastert, Speaker of the House of Representatives.

Dear Mr. Speaker: Pursuant to Section 36(c) of the Arms Export Control Act, I am transmitting, herewith, certification of a proposed license for the export of defense articles or defense services sold commercially under a contract in the amount $50,000,000 or more.

The transaction contained in the attached certification involves the export of technical data, defense services, and defense articles to support the development and deployment of the Optus C1 communications satellite for end use by Australia after launch from French Guiana.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 053-00.
Barbara Larkin,
Assistant Secretary, Legislative Affairs.

United States Department of State,

Washington, D.C. 20520.

June 15, 2000.

The Honorable J. Dennis Hastert, Speaker of the House of Representatives.

Dear Mr. Speaker: Pursuant to Section 36(d) of the Arms Export Control Act, I am transmitting herewith certification of a proposed Technical Assistance Agreement with Canada.

The transaction described in the attached certification involves the export of requirements for the design and manufacture of helicopter hangar doors for the U. S. Navy LPD-17 program.

The United States Government is prepared to license the export of these items having taken into account political, military, economic, human rights, and arms control considerations.

More detailed information is contained in the formal certification which, though unclassified contains business information submitted to the Department of State by the applicant, publication of which could cause competitive harm to the United States firm concerned.

Sincerely,
Enclosure: Transmittal No. DTC 58-00.
Barbara Larkin,
Assistant Secretary, Legislative Affairs.

United States Department of State,

Washington, D.C. 20520.

June 21, 2000.

The Honorable J. Dennis Hastert, Speaker of the House of Representatives.

Dear Mr. Speaker: Pursuant to Section 36(c) of the Arms Export Control Act, I am transmitting, herewith, certification of a proposed license for the export of defense articles or defense services sold commercially under a contract in the amount $50,000,000 or more.

The transaction contained in the attached certification involves the export of technical data, defense services, and defense articles for the Armed Forces Combat Training Center for end-use by the Egyptian Army.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 062-00.
Barbara Larkin,
Assistant Secretary, Legislative Affairs.

United States Department of State,

Washington, D.C. 20520.

June 21, 2000.

The Honorable J. Dennis Hastert, Speaker of the House of Representatives.

Dear Mr. Speaker: Pursuant to Section 36(d) of the Arms Export Control Act, I am transmitting herewith certification of a proposed manufacturing license agreement.

The transaction contained in the attached certification involves the export to France, of defense services for the design, development, production and support of the SPW 2000 Liquid Hydrogen/Liquid Oxygen Upperstage Rocket Engine.

The United States Government is prepared to license the export of these items having taken into account political, military, economic, human rights, and arms control considerations.

More detailed information is contained in the formal certification which, though unclassified, contains business information submitted to the Department of State by the applicant, publication of which could cause competitive harm to the United States firm concerned.

Sincerely,
Enclosure: Transmittal No. DTC 63-00.
Barbara Larkin,
Assistant Secretary, Legislative Affairs.

[FR Doc. 00-17904 Filed 7-13-00; 8:45 am]

BILLING CODE 4710-25-P